DEPARTMENT OF VETERANS AFFAIRS

Special Medical Advisory Group; Notice of Meeting

The Department of Veterans Affairs gives notice under Public Law 92-463 (Federal Advisory Committee Act) that the Special Medical Advisory Group will meet on June 16, 2004, from 9 a.m. to 3 p.m. The meeting will be held in Room 830 at Va Central Office, 810 Vermont Avenue, NW., Washington, DC. The meeting is open to the public.

The purpose of the Group is to advise the Secretary and Under Secretary for Health on the care and treatment of disabled veterans, and other matters pertinent to the Department's Veterans Health Administration (VHA). The agenda for the meeting will include discussions on budget, legislative issues, CARES, research, special populations, trends in medical education and the role of VA, care coordination and responding to the needs of returning service men and women.

Any member of the public wishing to attend should contact Juanita Leslie, Office of Administrative Operations (10B2), Veterans Health Administration, Department of Veterans Affairs at (202) 273-5882. No time will be set aside at this meeting for receiving oral presentations from the public. Statements, in written form, may be submitted to Juanita Leslie before the meeting or within 10 days after the meeting.

Dated: April 29, 2004.
By Direction of the Secretary of Veterans Affairs.
E. Philip Riggin,
Committee Management Officer.

[FR Doc. 04-10255 Filed 5-5-04; 8:45 am]

BILLING CODE 8320-01-M